DEPARTMENT OF TRANSPORTATION

Federal Aviation Administration

Twenty-Fourth RTCA SC-223 IPS and AeroMACS Plenary

AGENCY: Federal Aviation Administration (FAA), U.S. Department of Transportation (DOT).

ACTION: Twenty-Fourth RTCA SC-223 IPS and AeroMACS Plenary.

SUMMARY: The FAA is issuing this notice to advise the public of a meeting of Twenty-Fourth RTCA SC-223 IPS and AeroMACS Plenary. SC-223 is a subcommittee to RTCA.

DATES: October 22-October 27, 2017 9:00-5:00 p.m.

ADDRESSES: The meeting will be held at: The MITRE Corporation, 7515 Colshire Drive, McLean, VA 22102.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Twenty-Fourth RTCA SC-223 IPS and AeroMACS Plenary. The agenda will include the following:

October 22-27, 2017 9:00 a.m.-5:00 p.m.

1. Welcome, Introductions, Administrative Remarks

2. Review of previous meeting notes and action items

3. Review of Current State of Industry Standards

a. ICAO WG-I

b. AEEC IPS Sub Committee

4. Current State of Industry Activities

a. SESAR Programs

b. ESA IRIS Precursor

c. Any Other Activities

5. IPS Technical Discussions

a. Review of IPS high level profile

b. Review of IPS RFC detail Profiles

c. Prioritization of additional IETF RFCs for Profiling

6. Any Other Topics of Interest

7. Plans for Next Meetings

8. Review of Action Items and Meeting Summary

9. Adjourn

Attendance is open to the interested public but limited to space availability. Registration is required to attend. With the approval of the chairman, members of the public may present oral statements at the meeting. Persons wishing to present statements or obtain information should contact the person listed in the FOR FURTHER INFORMATION CONTACT section. Members of the public may present a written statement to the committee at any time.

Issued in Washington, DC, on September 26, 2017.
Mohannad Dawoud,
Management & Program Analyst, Partnership Contracts Branch, ANG-A17, NextGen, Procurement Services Division, Federal Aviation Administration.

[FR Doc. 2017-20968 Filed 9-29-17; 8:45 am]

BILLING CODE 4910-13-P